DEPARTMENT OF DEFENSE

Department of the Navy

Notice of Intent To Prepare an Environmental Impact Statement/Overseas Environmental Impact Statement for Navy Atlantic Fleet Training and Testing

AGENCY: Department of the Navy, DoD.

ACTION: Notice.

SUMMARY: Pursuant to section 102(2)(c) of the National Environmental Policy Act (NEPA) of 1969, as implemented by the Council on Environmental Quality Regulations (40 Code of Federal Regulations [CFR] Parts 1500-1508), and Executive Order (EO) 12114, the Department of the Navy (Navy) announces its intent to prepare an Environmental Impact Statement (EIS)/Overseas EIS (OEIS) to evaluate the potential environmental effects associated with continuing to conduct military readiness activities, which consist of training activities and research, development, testing, and evaluation (hereinafter referred to as “testing”) activities in the Atlantic Fleet Training and Testing (AFTT) Study Area. The Study Area consists of sea space in and airspace over the Atlantic Ocean along the eastern coast of North America, portions of the Caribbean Sea, and the Gulf of Mexico. The AFTT Study Area begins seaward from the mean high water line and moves east to the 45 degree longitude line. The Study Area covers approximately 2.6 million square nautical miles of ocean area, including designated Navy operating areas, warning areas, select Navy pierside locations, and associated port transit channels.

In order to both achieve and maintain military readiness, the Navy proposes to:

• Conduct training and testing activities at levels required to support Navy military readiness requirements beginning in 2018 into the reasonably foreseeable future; and

• Accommodate evolving mission requirements associated with force structure changes, including those resulting from the development, testing, and ultimate introduction of new platforms (vessels, aircraft, and weapon systems) into the fleet; thereby ensuring critical Navy requirements are met.

As part of this process the Navy will seek to obtain authorization and permitting, as required under the Marine Mammal Protection Act and Endangered Species Act, respectively.

The Navy invites comments on the scope and content of the EIS/OEIS from all interested parties. Comments may be provided by mail and through the EIS/OEIS Web site at: http://www.AFTTEIS.com. Mailed comments must be postmarked no later than January 16, 2016 and mailed to the address below to ensure they are considered.

FOR FURTHER INFORMATION CONTACT: Lesley Dobbins-Noble, Naval Facilities Engineering Command, Code EV22LDN (AFTT EIS/OEIS Project Manager), 6506 Hampton Boulevard, Norfolk, Virginia 23508-1278. 703-322-4625.

SUPPLEMENTARY INFORMATION: The Navy's lead action proponent is Commander, U.S. Fleet Forces Command. Additional action proponents include Naval Sea Systems Command (NAVSEA), Naval Air Systems Command (NAVAIR), and the Office of Naval Research (ONR). The Proposed Action is to conduct military readiness activities in the AFTT Study Area. These training and testing activities are generally consistent with those analyzed in the AFTT EIS/OEIS completed in August 2013 and are representative of training and testing that the Navy has been conducting in the AFTT Study Area for decades.

The following range complexes fall within the AFTT Study Area: Northeast Range Complexes, Virginia Capes Range Complex, Navy Cherry Point Range Complex, Jacksonville Range Complex, Key West Range Complex, and Gulf of Mexico Range Complex. The testing ranges in the AFTT Study Area include: Naval Undersea Warfare Center Division Newport, Newport, Rhode Island; Naval Surface Warfare Center (NSWC) Panama City Division, Panama City, Florida; and NSWC Carderock Division South Florida Ocean Measurement Facility, Dania, Florida. While most Navy military readiness activities take place in operating and warning areas in the AFTT Study Area, some activities, such as sonar maintenance and gunnery exercises, are conducted concurrent with normal transits and occur outside of these areas, but still within the Study Area. The pierside testing locations and associated port transit channels are located at the following Navy ports and naval shipyards: Portsmouth Naval Shipyard, Kittery, Maine; Naval Submarine Base New London, Groton, Connecticut; Naval Station Norfolk, Norfolk, Virginia; Joint Expeditionary Base Little Creek-Fort Story, Virginia Beach, Virginia; Naval Submarine Base Kings Bay, Kings Bay, Georgia; Naval Station Mayport, Jacksonville, Florida; Norfolk Naval Shipyard, Portsmouth, Virginia; and Port Canaveral, Cape Canaveral, Florida. Additional AFTT Study Area pierside testing locations and associated port transit channels are located in Bath, Maine; Groton, Connecticut; Newport News, Virginia; and Pascagoula, Mississippi.

Pursuant to 40 CFR 1501.6, the Navy will invite the National Marine Fisheries Service to be a cooperating agency in preparation of the EIS/OEIS.

The purpose of the Proposed Action is to maintain a ready force, which is needed to ensure that the Navy can meet its mission to maintain, train, and equip combat-ready naval forces capable of winning wars, deterring aggression, and maintaining freedom of the seas, as consistent with Congressional direction Section 5062, of Title 10 U.S. Code.

The AFTT Phase III EIS/OEIS will consider a No Action Alternative and action alternatives that account for types and tempo of training and testing activities beginning in 2018 as necessary to meet future readiness requirements.

Resource areas that will be addressed include, but are not limited to: Biological resources (including marine mammals and threatened and endangered species), sediments and water quality, air quality, noise, cultural resources, socioeconomic resources, and public health and safety.

The scoping process will be used to identify community concerns and local issues to be addressed in the EIS/OEIS. Federal agencies, state agencies, local agencies, Native American Indian Tribes and Nations, the public, and interested persons are encouraged to identify specific issues or topics of environmental concern that the Navy should consider. Written comments must be postmarked no later than January 12, 2016 to ensure they are considered in the development of the EIS/OEIS and mailed to: Naval Facilities Engineering Command, Atlantic, Code: EV22LDN (AFTT EIS/OEIS Project Manager), 6506 Hampton Boulevard, Norfolk, Virginia, 23508-1278. Comments also can be submitted electronically by January 12, 2016 via the project Web site at http://www.AFTTEIS.com.

Dated: November 5, 2015.
N.A. Hagerty-Ford,
Commander, Judge Advocate General's Corps, U.S. Navy, Administrative Law Division, Federal Register Liaison Officer.

[FR Doc. 2015-28750 Filed 11-10-15; 8:45 am]

BILLING CODE 3810-FF-P